DEPARTMENT OF DEFENSE

Office of the Secretary

[Docket ID DoD-2014-OS-0141]

Privacy Act of 1974; System of Records

AGENCY: Office of the Secretary of Defense, DoD.

ACTION: Notice to add a new System of Records.

SUMMARY: The Office of the Secretary of Defense proposes to add a new system of records, DPR 45 DoD, entitled “Military OneSource (MOS) Case Management System (CMS)” to its inventory of record systems subject to the Privacy Act of 1974, as amended.

The MOS CMS allows the documentation of an individual's eligibility; identification of the caller's inquiry or issue to provide a warm hand-off, referral and/or requested information; the development towards a final solution and referral information. Records may be used as a management tool for statistical analysis, tracking, reporting, and evaluating program effectiveness, and for conducting research. Information about individuals indicating a threat to self or others will be reported to the appropriate authorities in accordance with DoD regulations and established protocols.

DATES: Comments will be accepted on or before November 14, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571)372-0461.

SUPPLEMENTARY INFORMATION: The Office of the Secretary of Defense notices for systems of records subject to the Privacy Act of 1974 (5 U.S.C. 552a), as amended, have been published in the Federal Register and are availablefrom the address in FOR FURTHER INFORMATION CONTACT or at http://dpclo.defense.gov/.

The proposed system report, as required by 5 U.S.C. 552a(r) of the Privacy Act of 1974, as amended, was submitted on October 6, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 8, 2014.
Aaron Siegel,
Alternate OSD Federal Register Liaison Officer, Department of Defense.

DPR 45 DoD

System name:

Military OneSource (MOS) Case Management System (CMS)

System location:

DISA DECC Oklahoma City, 8705 Industrial Blvd., Building 3900, Tinker AFB, OK 73145-3336.

Categories of individuals covered by the system:

Active duty service members; Reserve and National Guard members; members of the Coast Guard activated as part of the Department of the Navy under Title 10 authority; medically discharged service members participating in a Service-sponsored Wounded Warrior or Seriously Ill and Injured Program; those with honorable and general (under honorable conditions) discharges (includes retirees and those on the Temporary Disability Retirement List (TDRL)), during the first 180 days after separation date; and DoD Civilian Expeditionary Workforce personnel; the immediate family members of the groups described above to include same-sex domestic partners; individuals with a legal responsibility to care for a deployed service member's children acting for the benefit of the children; and survivors of deceased service members who contact Military OneSource seeking information, referrals, or non-medical counseling.

Categories of records in the system:

Individual's full name, date of birth, gender, marital status, relationship to service member, rank, unit, branch of military service, military status, current address and mailing address, telephone number, email address, participant ID and case number (automatically generated internal numbers not provided to the participant), presenting issue/information requested, handoff type to contractor, handoff notes, if interpretation is requested and the language, referrals, and feedback from quality assurance follow-up with participants.

Non-medical counseling information includes psychosocial history; assessment of personal concerns; provider name, phone number, and location; authorization number; and outcome summary.

Authority for maintenance of the system:

10 U.S.C. 136, Under Secretary of Defense for Personnel and Readiness; 10 U.S.C. 1781 note, Establishment of Online Resources To Provide Information About Benefits and Services Available to Members of the Armed Forces and Their Families; DoD Directive 1404.10, DoD Civilian Expeditionary Workforce; DoD Instruction (DoDI) 1342.22, Military Family Readiness; and DoDI 6490.06, Counseling Services for DoD Military, Guard and Reserve, Certain Affiliated Personnel, and Their Family Members.

Purpose(s):

MOS CMS allows the documentation of an individual's eligibility; identification of the caller's inquiry or issue to provide a warm hand-off, referral and/or requested information; the development towards a final solution and referral information. Records may be used as a management tool for statistical analysis, tracking, reporting, and evaluating program effectiveness, and for conducting research. Information about individuals indicating a threat to self or others will be reported to the appropriate authorities in accordance with DoD regulations and established protocols.

Routine uses of records maintained in the system, including categories of users and the purposes of such uses:

In addition to those disclosures generally permitted under 5 U.S.C. 552a(b) of the Privacy Act of 1974, as amended, the records contained herein may specifically be disclosed outside the DoD as a routine use pursuant to 5 U.S.C 552a(b)(3) as follows:

To authorized DoD MOS contractors for the purpose of responding to service member or family member need.

To contractors and grantees for the purpose of supporting research studies concerned with the effectiveness of non-medical counseling interventions.

To local law enforcement entities for the purpose of intervention to prevent harm to the individual (self) in accordance with DoD regulations and established protocols.

Any release of information contained in this system of records outside the DoD under a routine use will be compatible with the purpose(s) for which the information is collected and maintained.

The DoD Blanket Routine Uses set forth at the beginning of the Office of the Secretary of Defense (OSD) compilation of systems of records notices may apply to this system.

Policies and practices for storing, retrieving, accessing, retaining, and disposing of records in the system:

Storage:

Electronic storage media.

Retrievability:

Information is retrieved by the participant's full name.

Safeguards:

MOS CMS is hosted on a DoD Information Assurance Certification and Accreditation Process (DIACAP) certified and accredited infrastructure. Records are maintained in a secure building in a controlled area accessible only to authorized personnel. Physical entry is restricted by the use of locks and passwords and administrative procedures which are changed periodically. Records are encrypted when not in use (encrypted at rest). Personally identifiable information (PII) is encrypted during transmission to protect session information. The system is designed with access controls, comprehensive intrusion detection, and virus protection. Access to PII in this system is role based and restricted to those who require the data in the performance of the official duties and have completed information assurance and privacy training annually.

Retention and disposal:

Disposition Pending. Until the National Archives and Records Administration has approved the retention and disposal of these records, treat them as permanent.

System manager(s) and address:

Director, Military Community Outreach, Military Community and Family Policy, 4000 Defense Pentagon, Washington, DC 20301-2400; or Military OneSource Program Manager, Military OneSource Program Office, Military Community Outreach, Military Community and Family Policy, 4800 Mark Center Drive, Alexandria, VA 22350-2300.

Notification procedures:

Individuals seeking to determine if information about themselves is contained in this record system should address written inquiries to the system manager.

Written requests should be signed and include the individual's full name, current address, and telephone number.

Record access procedures:

Individuals seeking access to information about themselves contained in this record system should address written inquiries to the Office of the Secretary of Defense/Joint Staff Freedom of Information Act Requester Service Center, 1155 Defense Pentagon, Washington DC 20301-1155.

Signed, written requests must include the individual's full name, current address, telephone number and this system of records notice number.

In addition, the requester must provide a notarized statement or an unsworn declaration made in accordance with 28 U.S.C. 1746, in the following format:

If executed outside the United States: `I declare (or certify, verify, or state) under penalty of perjury under the laws of the United States of America that the foregoing is true and correct. Executed on [date]. [Signature].'

If executed within the United States, its territories, possessions, or commonwealths: `I declare (or certify, verify, or state) under penalty of perjury that the foregoing is true and correct. Executed on [date]. [Signature].'

Contesting record procedures:

The OSD rules for accessing records, for contesting contents, and appealing initial agency determinations are published in OSD Administrative Instruction 81; 32 CFR Part 311, or may be obtained from the system manager.

Record source categories:

The individual, Military OneSource program officials, and authorized contractors providing advice and support to the individual.

Exemptions:

None.

[FR Doc. 2014-24413 Filed 10-14-14; 8:45 am]

BILLING CODE 5001-06-P